NATIONAL SCIENCE FOUNDATION

President's Committee on the National Medal of Science; Notice of Meeting

In accordance with the Federal Advisory Committee Act (Pub. L. 92-463 as amended), the National Science Foundation announces the following meeting:

Name and Committee Code: President's Committee on the National Medal of Science (1182).

Date and Time: Friday, July 22, 2016, 9:00 a.m.-2:00 p.m..

Place: National Science Foundation, 4201 Wilson Boulevard, Arlington, VA 22230.

Type of Meeting: Closed.

Contact Person: Dr. Sherrie Green, Program Manager, Room 935, National Science Foundation, 4201 Wilson Blvd., Arlington, VA 22230; Telephone: 703-292-4757.

Purpose of Meeting: To provide advice and recommendations to the President in the selection of the 2015 National Medal of Science recipients.

Agenda: To review and evaluate nominations as part of the selection process for awards.

Reason for Closing: The nominations being reviewed include information of a personal nature where disclosure would constitute unwarranted invasions of personal privacy. These matters are exempt under 5 U.S.C. 552b(c) and (6) of the Government in the Sunshine Act.

Dated: June 15, 2016.
Crystal Robinson,
Committee Management Officer.

[FR Doc. 2016-14496 Filed 6-17-16; 8:45 am]

BILLING CODE 7555-01-P